DEPARTMENT OF HEALTH AND HUMAN SERVICES

Centers for Medicare & Medicaid Services

Statement of Organization, Functions, and Delegations of Authority

Part F of the Statement of Organization, Functions, and Delegations of Authority for the Department of Health and Human Services, Centers for Medicare & Medicaid Services (CMS), (Federal Register, Vol. 75, No. 56, pp. 14176-14178, dated March 24, 2010; as amended at Vol. 76, No. 17, p. 4703, dated January 26, 2011; as amended at Vol. 76, No. 75, pp. 21908-21909, dated April 19, 2011) is amended to reflect the establishment of the Office of Minority Health.

Part F is described below:

• Section FC. 10 (Organization) reads as follows:

Office of the Administrator (FC)

Office of Equal Opportunity and Civil Rights (FCA)

Office of Legislation (FCC)

Office of the Actuary (FCE)

Office of Strategic Operations and Regulatory Affairs (FCF)

Office of Clinical Standards and Quality (FCG)

Center for Medicare (FCH)

Center for Medicaid, CHIP and Survey & Certification (FCJ)

Center for Strategic Planning (FCK)

Center for Program Integrity (FCL)

Chief Operating Officer (FCM)

Office of Minority Health (FCN)

Center for Medicare and Medicaid Innovation (FCP)

Federal Coordinated Health Care Office (FCQ)

Center for Consumer Information and Insurance Oversight (FCR)

Office of Public Engagement (FCS)

Office of Communications (FCT)

• Section FC. 20 (Functions) reads as follows:

Office of Minority Health (FCN)

• Serves as the principal advisor and coordinator to the Agency for the special needs of minority and disadvantaged populations.

• Provides leadership, vision and direction to address HHS and CMS Strategic Plan goals and objectives related to improving minority health and eliminating health disparities.

• Develops an Agency-wide data collection infrastructure for minority health activities and initiatives.

• Implements activities to increase the availability of data to monitor the impact of CMS programs in improving minority health and eliminating health disparities.

• Participates in the formulation of CMS goals, policies, legislative proposals, priorities and strategies as they affect health professional organizations and others involved in or concerned with the delivery of culturally and linguistically-appropriate, quality health services to minorities and disadvantaged populations.

• Consults with HHS Federal agencies and other public and private sector agencies and organizations to collaborate in addressing health equity.

• Establishes short-term and long-range objectives and participates in the focus of activities and objectives in assuring equity of access to resources and health careers for minorities and disadvantaged populations.

Authority: 44 U.S.C. 3101.

Dated: July 12, 2011.
Donald Berwick,
Administrator, Centers for Medicare & Medicaid Services.

[FR Doc. 2011-19000 Filed 7-26-11; 8:45 am]

BILLING CODE 4120-01-P